DEPARTMENT OF TRANSPORTATION

Federal Aviation Administration

14 CFR Parts 121, 125, 135, and 145

[Docket No. FA-2000-7952]

RIN 2120-A113

Service Difficulty Reports

AGENCY: Federal Aviation Administration, DOT

ACTION: Final rule; delay of effective date.

SUMMARY: The Federal Aviation Administration (FAA) is further delaying the effective date of a final rule that amends the reporting requirements for air carriers and certificated domestic and foreign repair station operators concerning failures, malfunctions, and defects of aircraft, aircraft engines, systems, and components. This action is prompted by the FAA's decision to address industry concerns about the final rule. Delaying the effective date of the final rule will allow the agency time for consideration of industry concerns.

DATES: The effective date of the rule amending 14 CFR parts 121, 125, 135, and 145 published at 65 FR 56191 (Sept. 15, 2000) and most recently delayed at 67 FR 78970 (Dec. 27, 2002) is further delayed from January 16, 2004, until January 30, 2006.

FOR FURTHER INFORMATION CONTACT: Jose E. Figueroa, Flight Standards Service, Tampa Flight Standards District Office, 5601 Mariner Street, Suite 310, Tampa, Florida 33609-3413, telephone 813-287-4932.

SUPPLEMENTARY INFORMATION:

Background

On September 15, 2000, the FAA published the final rule entitled “Service Difficulty Reports” (65 FR 56191). We also requested comments on the information collection requirements. The final rule, which had an effective date of January 16, 2001, amended the reporting requirements for air carriers and certificated domestic and foreign repair station operators concerning failures, malfunctions, and defects of aircraft, aircraft engines, systems, and components. The FAA received extensive written comments on the Service Difficulty Reporting (SDR) requirements and on the potential duplicate reporting of certain failures, malfunctions, and defects.

On November 30, 2000, the FAA announced (65 FR 71247) that a public meeting on this rulemaking would be held on December 11, 2000. Participants at that meeting raised novel issues that the FAA was not aware of when preparing the final rule.

As a result of the concerns expressed at the meeting and those raised during the comment period for information collection requirements on the final rule, the FAA delayed the effective date on four separate occasions to January 16, 2004. The purpose of these delays was to allow the agency time to consider industry's concerns and to consider issuing a notice of proposed rulemaking (NPRM). Unfortunately, we have not completed action on this initiative, and a further delay of the effective date is necessary to allow additional time for us to address industry concerns.

Related Activity

Revised Aeronautical Repair Station Regulations

On August 6, 2001, the FAA published revisions to its repair station rule (66 FR 41088). As a part of that action, we removed §§ 145.63 and 145.79, and created a new § 145.221 to contain SDR requirements for repair stations. The FAA intends for the § 145.221 amendment to take effect on January 31, 2004, concurrent with other repair station requirements (see 66 FR 41088 (Aug. 6, 2001) delayed until Jan. 31, 2004, at 68 FR 55819 (Sept. 29, 2003).)

Good Cause for Immediate Adoption

Since the delay in the effective date of the final rule does not impose any new requirements or any additional burden on the regulated public, the FAA finds that good cause exists for immediate adoption of the new effective date without a 30-day notice.

The Effect of Our Decision

Our decision delays the effective date of the SDR final rule from January 16, 2004 until January 31, 2006. The FAA cautions the industry that the existing rules will remain in effect until the new dates are effective, with the exception of the § 145.221 amendment that will be effective on January 31, 2004.

Issued in Washington, DC, on December 19, 2003.
Marion Blakey
Administrator.

[FR Doc. 03-31883 Filed 12-23-03; 8:45 am]

BILLING CODE 4910-13-M